SMALL BUSINESS ADMINISTRATION

Senior Executive Service and Senior Level: Performance Review Board Members

AGENCY: U.S. Small Business Administration.

ACTION: Notice of Members for the FY 2017 Performance Review Board.

Title 5 U.S.C. 4314(c) (4) requires each agency to publish notification of the appointment of individuals who may serve as members of that Agency's Performance Review Board (PRB). The following individuals have been designated to serve on the FY 2017 Performance Review Board for the U.S. Small Business Administration.

Members:

1. Joseph Loddo (Chair), Chief Operating Officer, Office of the Chief Operating Officer.

2. Pradeep Belur, Senior Advisor to the Deputy Administrator, Office of the Administrator.

3. Barbara Carson, Associate Administrator, Office of Veterans Business Development.

4. Eugene Cornelius Jr., Deputy Associate Administrator, Office of International Trade.

5. Allen Gutierrez, Associate Administrator, Office of Entrepreneurial Development.

6. Holly Schick, Director, Mentor Protégé Program, Office of Government Contracting and Business Development.

7. Robert Steiner, District Director (Illinois District Office), Office of Field Operations.

8. William Manger, Associate Administrator, Office of Capital Access.

Linda E. McMahon,
Administrator.

[FR Doc. 2017-21926 Filed 10-11-17; 8:45 am]

BILLING CODE 8025-01-P